INTERNATIONAL TRADE COMMISSION

[Investigation No. 337-TA-1412]

Certain NAND Memory Devices and Electronic Devices Containing Same; Notice of the Commission's Determination Not To Review an Initial Determination Terminating the Investigation

AGENCY: U.S. International Trade Commission.

ACTION: Notice.

SUMMARY: Notice is hereby given that the U.S. International Trade Commission has determined not to review the presiding administrative law judge's (“ALJ”) initial determination (“ID”) (Order No. 7) terminating the investigation based on a settlement agreement and withdrawal of the complaint.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on August 13, 2024, based on a complaint filed by MimirIP LLC of Dallas, Texas (“Mimir”). 89 FR 65931-32 (Aug. 13, 2024). The complaint, as supplemented, alleges violations of section 337 of the Tariff Act of 1930, as amended, 19 U.S.C. 1337, based upon the importation into the United States, the sale for importation, and the sale within the United States after importation of certain NAND memory devices and electronic devices containing same by reason of infringement of certain claims of U.S. Patent Nos. 8,637,919; 9,245,962; and 10,896,918. The notice of investigation named as respondents: Micron Technology, Inc. (“Micron”) of Boise, Idaho; Acer Inc. of New Taipei City, Taiwan; Acer America Corp. of San Jose, California; HP, Inc. of Palo Alto, California; Kingston Technology Company, Inc. of Fountain Valley, California; Lenovo Group Limited of Hong Kong, China; and Lenovo (United States) Inc. of Morrisville, North Carolina (collectively, “Respondents”). The Office of Unfair Import Investigations (“OUII”) is also a party in this investigation.

On August 28, 2024, Mimir and Respondents filed a joint motion to terminate the investigation based on a settlement between Mimir and Micron that resolves all issues as to all Respondents in this investigation. On September 5, 2024, OUII filed a response in support of the motion. On September 6, 2024, the ALJ issued Order No. 6 requesting additional clarification regarding the motion. On September 10, 2024, Mimir and Micron jointly filed a supplement to the motion stating that Mimir requests termination of the investigation based on withdrawal of the complaint with respect to the respondents other than Micron.

On September 12, 2024, the ALJ issued the subject ID granting the joint motion to terminate the investigation. The ALJ found that the motion complied with the requirements of Commission Rule 210.21(b)(1) (19 CFR 210.21(b)(1)) with respect to the termination of Micron based on a settlement agreement, and the motion complied with the requirements of Commission Rule 210.21(a)(1) (19 CFR 210.21(a)(1)) with respect to the termination of the remaining respondents by withdrawal of the complaint. No petitions for review of the ID were filed.

The Commission has determined not to review the subject ID. The investigation is hereby terminated in its entirety.

The Commission vote for this determination took place on October 4, 2024.

The authority for the Commission's determination is contained in section 337 of the Tariff Act of 1930, as amended (19 U.S.C. 1337), and in part 210 of the Commission's Rules of Practice and Procedure (19 CFR part 210).

By order of the Commission.
Issued: October 4, 2024.
Lisa Barton,
Secretary to the Commission.

[FR Doc. 2024-23403 Filed 10-9-24; 8:45 am]

BILLING CODE 7020-02-P